DEPARTMENT OF HOMELAND SECURITY

Coast Guard

[USCG-2009-0992]

National Offshore Safety Advisory Committee

AGENCY: Coast Guard, DHS.

ACTION: Notice of open teleconference meeting.

SUMMARY: This notice announces a teleconference meeting of the National Offshore Safety Advisory Committee (NOSAC) to discuss items listed in the agenda as well as other items that NOSAC may consider. This meeting will be open to the public.

DATES: The teleconference call will take place on Thursday, December 8, 2009, from 2 p.m. to 4 p.m. EST. This meeting may close early if all business is finished. Written material and requests to make oral presentations should reach the Coast Guard on or before December 4, 2009. Requests to have a copy of your material distributed to each member of the committee should reach the Coast Guard on or before December 4, 2009.

ADDRESSES: The Committee will meet, via telephone conference, on December 8, 2009. Members of the public wishing to participate may contact CDR P.W. Clark at 202-372-1410 for call in information or they may participate in person by coming to Room 1303, U.S. Coast Guard Headquarters Building, 2100 Second Street, SW., Washington DC 20593. As there are a limited number of teleconference lines, public participation will be on a first come basis. Written comments should be sent to Commander P.W. Clark, Designated Federal Officer of NOSAC, Commandant (CG-5222), 2100 Second Street, SW., Washington, DC 20593-0001; or by fax to 202-372-1926. This notice is available on our online docket, USCG-2009-xxxx, at http://www.regulations.gov.

FOR FURTHER INFORMATION CONTACT: Commander P.W. Clark, Designated Federal Officer of NOSAC, or Mr. Jim Magill, Assistant Designated Federal Officer, telephone 202-372-1414, fax 202-372-1926.

SUPPLEMENTARY INFORMATION: Public participation is welcome and the public may participate in person by coming to Room 1303, U.S. Coast Guard Headquarters Building, 2100 Second Street, SW., Washington DC 20593 or by contacting CDR P.W. Clark at 202-372-1410 for call in information. Notice of this meeting is given under the Federal Advisory Committee Act, 5 U.S.C. App. 2.

Agenda of Meeting

The agenda for the December 8, 2009 Committee meeting is as follows:

(1) Roll call of Committee members and the public participating in the teleconference.

(2) Approval of minutes from the November 5, 2009.

(3) Subcommittee's Final Report on proposals for MARPOL Annex II, A.673 standards for existing Offshore Supply Vessels (OSVs).

(4) Committee discussion and vote on Subcommittee's Final Report for MARPOL Annex II, A.673.

(5) Review of and possible NOSAC action to approve a recommendation to re-establish the Diving Subcommittee and discussion on a proposed task statement to study the matter of medical treatment of injured divers while working on the OCS.

(6) Review of background information and possible NOSAC action related to minimizing offshore lifts on the OCS.

(7) Period for Public Comment.

(8) Confirmation of the date/time for the next NOSAC Meeting (Thursday, April 8, 2009 in New Orleans).

Procedural

This meeting is open to the public. Please note that the meeting may close early if all business is finished. At the Chair's discretion, members of the public may make oral presentations during the meeting. If you would like to make an oral presentation during the teleconference, please notify the DFO no later than December 4, 2009. Written material for distribution to Committee members should reach the Coast Guard no later than December 4, 2009.

Minutes

Minutes from the meeting will be available for the public review and copying 30 days following the teleconference meeting.

Information on Services for Individuals With Disabilities

For information on facilities or services for individuals with disabilities or to request special assistance at the meeting, contact Mr. Jim Magill at 202-372-1414 as soon as possible.

Dated: November 10, 2009.
J.G. Lantz,
Director of Commercial Regulations and Standards.

[FR Doc. E9-27634 Filed 11-17-09; 8:45 am]

BILLING CODE 9110-04-P